DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Region Permit Family of Forms.

OMB Control Number: 0648-0206.

Form Number(s): None.

Type of Request: Regular submission.

Number of Respondents: 644.

Average Hours per Response: Federal Fisheries Permits and Federal Processor Permits, 21 minutes; Exempted Fisheries Permits, 20 hours.

Burden Hours: 304.

Needs and Uses: As part of Fishery Management Plans developed under the authority of the Magnuson-Stevenson Fishery Conservation and Management Act, 16 U.S.C. 1801 et seq., this collection of information is used to monitor and manage participation in groundfish fisheries by National Marine Fisheries Service (NMFS), Alaska Region, and consists of the following permits: Federal Fisheries Permit, Federal Processor Permit, and Exempted Fishing Permit. The permit information provides: harvest gear types; descriptions of vessels, shoreside processors, and stationary floating processors; and expected fishery activity levels. Identification of the participants and expected activity levels are needed to measure the consequences of management controls, and is an effective tool in the enforcement of other fishery regulations.

Affected Public: Business or other for-profit organizations.

Frequency: Every three years.

Respondent's Obligation: Mandatory.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: August 19, 2009.
Gwellnar Banks,
Management Analyst, Office of the Chief Information Officer.

[FR Doc. E9-20263 Filed 8-21-09; 8:45 am]

BILLING CODE 3510-22-P